DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2015 Census Test.

OMB Control Number: 0607-xxxx.

Form Number(s):

Questionnaire

DD-1

DD-1A(E/S)

Instruction Card

DD-33A

DD-33

DD-33(U)

Advance Letter for BYOD

DD-5(L)(2015b)

Questionnaire Cover Letters

DD-16(L)(1)

DD-16(L)(1)(E/S)

DD-16(L)(2)

DD-17(L)(1)

DD-17(L)(1)(E/S)

DD-17(L)(3)

Postcards

DD-9(REG)

DD-9(U)

DD-9

DD-9(E/S)

DD-9(2A)

DD-9(2A)(E/S)

DD-9(2D)

Envelopes

BC-1325

DD-6A(IN)

DD-6A(IN)(E/S)

DD-6A(1)(IN)

DD-6A(1)(IN)(E/S)

DD-8A

DD-8A(E/S)

Field Items

DD-26A Notice of Visit

DD-26B Notice of Visit

DD-26B(C) Notice of Visit—English/Chinese

DD-26B(K) Notice of Visit—English/Korean

DD-26B(V) Notice of Visit—English/Vietnamese

DD-31 Confidentiality Notice

DD-3309 Language ID flashcard

NRFU Instrument Spec

Internet Instrument Spec

EFU Instrument Spec

EFU Letter/Flyer

Wording for Emails and Text Messages

Type of Request: New Collection.

Number of Respondents: 470,000.

Average Hours per Response: 0.2.

Burden Hours: 98,086.

Estimated Burden Hours for 2015 Census Test Savannah Site
[Savannah, GA and adjacent areas in South Carolina]
| Estimated number of respondents | Estimated time per response | Estimated total annual burden hours
Savannah Sample = 90,000 households plus respondents from awareness campaign
Self-Response Enumeration | 305,000 | 12 minutes | 61,000
Subset of Savannah Sample (Not counted toward total respondents but included in burden hours)
“Notify Me” | 100,000 | 3 minutes | 5,000
Focus Groups Selection | 144 | 3 minutes | 8
Focus Groups | 80 | 2 hours | 160
Totals
Total Respondents | 305,000 | Total Burden Hours | 66,168

Estimated Burden Hours for 2015 Census Test Maricopa Site
[Maricopa County, AZ]
| Estimated number of respondents | Estimated time per response | Estimated total annual burden hours
Maricopa County Sample = 160,000 households
Self Response | 90,000 | 12 minutes | 18,000
Non Response Follow-up (NRFU) | 70,000 | 10 minutes | 11,667
Subset of Maricopa Sample (Not counted toward total respondents but included in burden hours)
Evaluation Follow-up | 5,000 | 15 minutes | 1,250
Focus Groups Selection | 144 | 3 minutes | 8
Focus Groups | 80 | 2 hours | 160
Additional Bring Your Own Device Sample (Maricopa County) = 5,000 households
BYOD Follow-up | 5,000 | 10 minutes | 833
Totals
Total Respondents | 165,000 | Total Burden Hours | 31,918

Needs and Uses: During the years preceding the 2020 Census, the Census Bureau will pursue its commitment to reduce the cost of conducting the next decennial census while still providing the highest data quality possible. A primary decennial census cost driver is the collection of data in person from addresses for which the Census Bureau received no reply via initially offered response options. We refer to these as nonresponse cases, and to the in-person visits to them as Nonresponse Follow-up, or NRFU. Increasing the number of people who take advantage of self-response options (such as completing Internet alternatives, or responding via telephone, or a paper questionnaire and mailing it back to the Census Bureau can contribute to a less costly census. The Census Bureau is committed to using the Internet as a primary response option in the 2020 Census, so we need to study ways to offer and promote the Internet as a self-response option for the 2020 Census.

In addition to increasing and optimizing self-response through the Internet, the Census Bureau plans to incorporate the use of new technologies, such as advertising via social media, encouraging the use of the Internet as the primary response mode and allowing respondents to submit a paper or electronic questionnaire without a unique identification code. We are focusing on studying these outreach and self-response approaches in a 2015 Census Test in the Savannah, GA area.

Another 2015 Census Test will be in the Maricopa County, AZ area, and will study alternative methods that are designed to increase efficiency and reduce costs while conducting NRFU operations. The test objectives in this site also include studying the use of administrative records to reduce field visits and costs.

2015 Census Test—Savannah Site

[Optimizing Self-Response (OSR) Testing]

The 2015 Census Test in selected counties in and surrounding Savannah, GA, and adjacent counties in South Carolina, will allow the Census Bureau to study a variety of new methods and advanced technologies that are under consideration for the 2020 Census. The Census Bureau will conduct this test in the Savannah Media Market, which includes 20 counties, 17 in Georgia and 3 in South Carolina. This media market has diversity in demographics, address types, and Internet penetration and usage. We primarily selected this market because we consider it fairly self-contained, which will limit bleed-over of advertising efforts into neighboring media markets, while conducting a full outreach and advertising effort for all households in the test area. Additionally, it is cost effective for the Census Bureau to advertise in this medium-sized market area.

To improve Internet self-response, the Census Bureau plans to continue testing multiple contact and notification strategies that we studied in the 2014 Census Test. For example, we will implement an Internet-push strategy, which proved to be an effective strategy in the 2014 Census Test. We will also include a “Notify Me” campaign, which allows respondents to register their email address or cell phone number through a Web site and to provide their mode preference for future contacts, by email or text message. In the 2014 Census Test, the participation rate for “Notify Me” was very low, so we are investigating methods for improving the understanding of and participation in this opportunity for early engagement. As mentioned above, this test will include a communications component to increase awareness and encourage Internet participation by potential respondents, including the “Notify Me” component of the test. Traditional advertising and outreach efforts used for the decennial census will be supplemented with targeted digital marketing for groups that we know to be hard-to-count from past censuses and surveys. We will use our planning database to identify hard-to-count groups at the block or tract level, and place advertisements with targeted messaging on digital sites frequented by these groups. In addition to the Internet, respondents will have an opportunity to respond via paper questionnaires or telephone interviews. Because the focus of this test is optimizing self-response, we will not conduct a NRFU operation in this test site.

The 2015 Census Test in the Savannah site also will continue Census Bureau efforts to make it easier for respondents to respond by allowing them to do so without providing a pre-assigned User Identification (ID) number associated with their address. This “non-ID” option was successfully implemented in the 2014 Census Test, but the response rates were lower for the non-ID panels in that test. However, the response rates for non-ID cases were determined not only by the respondent participation, but also on our ability to match the respondent-provided address information to the sample address from the Master Address File (MAF). In the Savannah site, building on the work from the 2014 Census Test, we will test our ability to improve the non-ID process by conducting real-time processing of responses lacking a pre-assigned User ID. In the 2014 Census Test, this was done via back-end processing; not while respondents were on-line. In the 2015 Census Test, for respondents who do not have an ID or do not use a pre-assigned User ID to complete their census form online, we will attempt to search for their address in the MAF to determine if it matches an existing MAF record. If the initial attempt to match the respondent-provided address is unsuccessful, but we are able to determine that further respondent input might be able to assist us, the Internet response instrument will prompt the respondent for additional information. In all instances where a MAF match is not found, we will attempt to assign the respondent address to a census block, and then the respondent will be asked to confirm or correct that location via an integrated map interface with the Census questionnaire. This real-time processing methodology should increase our matching rates, thereby helping us to realize higher self-response rates for the non-ID universe. In addition, if we are able to match a respondent's provided address information to our MAF in real time, it will permit us to remove the address from the NRFU universe immediately, thereby reducing the field workload and cost.

The Test in the Savannah site is comprised of four phases: Communication, “Notify Me,” Self-response, and Focus groups.

Communication—In the 2015 Census Test in the Savannah area, communication strategies will include broadcast and cable/satellite television, radio ads, print ads, influencer phone calls to remind households to participate, earned media, and social media. Additionally this test will also explore the use of digital (an online ad for the general population) and targeted digital (an online ad placed and catered to harder-to-count audiences) advertising. The first phase of advertising will run through the duration of “Notify Me,” and messaging will educate residents about the test and the option to pre register. The second phase of advertising runs through the duration of OSR data collection and will include additional test information while motivating self-response with call to action messaging.

“Notify Me”—Similar to the what we studied in the 2014 Census Test, this early engagement provides an opportunity to make people aware of the Test and to provide them the opportunity to voluntarily select their preferred mode for future invitations and reminders (i.e., how to “Notify Me” when it is time to complete the Census form—email or text message). The communications campaign in the Savannah site will seek to educate the public on the benefits of the “Notify Me” opportunity and to encourage them to participate.

Self-response—For the 2015 Census Test in the Savannah site, we will implement our current standard “Internet Push” contact strategy, which involves a letter inviting people to respond via the Internet with up to two postcard reminders, and ultimately a paper questionnaire. The Census Bureau will directly contact up to 90,000 housing units to notify them of the survey. A subsample of these notifications will provide a User ID for the respondent to use for their Internet response, and the remaining sample will not provide an ID, so we can test processing these non-ID cases. Additionally, respondents that have not been directly contacted but have become aware of the Test (and the Internet site) via some of the planned outreach and advertising, can also self-respond via the Internet without the need for a User ID. These two sets of non-ID respondents will allow us to study real-time non-ID processing, as described above. Additionally, we will test a mechanism (using an independent source) for validating all non-ID respondents in order to identify duplicate or potentially fraudulent responses. This validation testing will not involve additional contact with respondents, so that there will be no further respondent burden.

For people responding via the Internet or on paper, we will offer telephone questionnaire assistance. On-line respondents will be able to do this directly through the Internet instrument, or by phoning the telephone questionnaire assistance number. People who prefer not to respond via a paper form or on the Internet also can call this number and complete the questionnaire for their household with a telephone agent.

Focus Groups—To evaluate the “Notify Me” strategy being tested in the 2015 Census Test Savannah site, the Census Bureau will conduct four focus groups, comprised of various categories of respondents and non-respondents. These focus groups are intended to gather information about respondent perspectives regarding this notification; whether they thought that the “Notify Me” component was the actual participation or response to the Census Test; and whether they had a preference to wait for Census Day without registering a contact preference.

In these focus groups, participants will be asked about their experiences with the 2015 Census Test, including: Their reactions and thoughts about being contacted by the Census Bureau by email and text messages, the perceived legitimacy of these contacts; their opinions on the use of administrative records by the Census Bureau; and the use of targeted Internet advertisements. Participants will also be asked about their general concerns with government collection and protection of confidential data. We will try to ascertain and discuss the outreach, promotion, media/mode or method that informed the respondent about the “Notify Me” option and/or the Census Test. We also will ask if the ability to respond without having to provide a pre-assigned User ID made the respondent more likely to participate. At the end of the focus groups, we may be asking participants for whom we have acquired additional data from a commercial third party to verify whether this information is accurate.

The Census Bureau Phone Center will recruit for these focus groups using existing phone number information we have for a sample of addresses in the 2015 Census Test. Phone Center staff will use screener questions that include the following requirements: (1) Focus group participants are required to have personally responded to the 2015 Census Test, (2) to be employed outside the Federal Government, and (3) to speak English.

The focus groups will be conducted in person, and all interviews will be tape-recorded to facilitate later analyses of the results. Participants will be asked to sign consent forms and give permission to be recorded. All participants will be informed that their response is voluntary and that the information they provide is confidential. Respondents will receive a $75 stipend after the group concludes.

2015 Census Test—Maricopa County Site

(Nonresponse Follow-up (NRFU) Operation Testing)

The 2015 Census Test to be conducted in portions of Maricopa County, AZ will test alternative methods for conducting NRFU operations that are designed to increase efficiency and reduce costs. Rapid changes in technology over the past decade now provide the Census Bureau with an opportunity to use automation to conduct NRFU field operations during the 2020 Census. The Census Bureau is researching and testing the best contact strategies and methods for field data collection, case assignment management, and field staff administrative functions. In addition, the research in utilizing administrative records, including government and third party sources, seeks to test and determine the best methodologies for using administrative records in support of NRFU, adaptive design, and enumeration.

Self-response—For the 2015 Census Test in the Maricopa site, we also will implement our current standard “Internet Push” contact strategy, which involves a letter inviting people to respond via the Internet; up to two postcard reminders; and ultimately, a paper questionnaire. Because the test area is not a self-contained media market, and because not all households in the test area will be requested to respond, we will not be conducting the same types of outreach and promotion efforts being used in the Savannah site. The estimated sample size for the Maricopa site will be 165,000 housing units, and we estimate 70,000 of these will be fall into the NRFU operation.

Nonresponse Follow-up (NRFU)—As part of the 2015 Census Test in Maricopa, data will be collected on automated enumeration devices (or smart phones). We will use an automated questionnaire similar to the one used in the 2014 Census Test NRFU operations. This data collection will be conducted using government-owned, commercially provided mobile devices. As in the 2014 Census Test, the “notice of visit” letters left at the door when a respondent is not home will contain information on how a respondent can self-respond via the Internet or by calling the Census Bureau's telephone questionnaire assistance line. For the 2015 Census Test, the notice of visit will be translated into four non-English languages which is a change from previous years where the notice was only provided in English and Spanish. The intent is to reduce the number of in-person enumerator return visits by encouraging respondents to complete their questionnaire online or by telephone.

We also will be studying rules for determining which non-responding units will be visited, and how to collect information from households that do not self-respond. For instance, the Census Bureau will vary the approach to visiting households that have administrative records to determine the housing unit status (i.e., whether it is vacant or occupied) or to enumerate the people living at the address once we know the status for cases that do not respond. In both panels, units identified as vacant based on administrative record information will be identified and no NRFU visits will be conducted. For units identified as occupied with a determined population based on administrative records, they will be handled differently in each of the experimental panels. In one panel, they will be identified before NRFU starts and no NRFU visits will be conducted. In the second panel, they will be identified but we will attempt one interview at the unit before utilizing administrative records information. Also, to study adaptive design principles, the Census Bureau will vary the number of personal visit attempts to in different geographic areas based on hard-to-count criteria like response rates. We also will study when it is feasible to discontinue attempts to collect information from each non-responding household and instead move to attempting to collect information from a householder's neighbor or another knowledgeable source.

NRFU Evaluation Follow-up (EFU)—The goal of the Evaluation Follow-up is to obtain the most accurate Census Day status of each housing unit in this study by revisiting addresses where we find discrepancies between the NRFU results and administrative records information for the address. This mostly will include those addresses where information collected during NRFU conflicts with information we have from administrative records for that address. We also will include some addresses in this study where information from governmental administrative record and/or third party sources have had possible changes in household composition over a two-year period.

Content Testing—The 2015 Census Test questionnaire for both sites will include questions on housing tenure, household roster, age, date of birth, race and Hispanic origin, and relationship. The 2015 Census Test will include a combined race and Hispanic origin question that is similar to one used in the 2014 Census Test. This combined question provides examples and write-in areas for each major response category. Respondents will be asked to self-identify by selecting one or more checkboxes, and reporting a specific origin for each checkbox selected. The inclusion of the combined question will allow the Census Bureau to conduct imputation research using this combined format in a setting when there are self-responses, administrative records and NRFU enumerator responses (Maricopa site only). This will allow the Census Bureau to learn how imputation approaches for the combined question might need to be different than approaches used in the past when the questions were asked separately. For the relationship question, the 2015 Census Test will include new response categories recommended by OMB for opposite-sex and same-sex husband/wife/spouse households, and for the category for unmarried partner. The Census Bureau is currently considering the inclusion of new categories for same-sex couples on the decennial census questionnaire. In August 2009, the Secretary of Commerce requested that the Office of Management and Budget (OMB) establish the interagency task force [Measuring Relationship in Federal Household Surveys] to research issues related to improving the collection and tabulation of marriage and relationship data. One focus of the research was family relationships, particularly with respect to same-sex couples who report being married. The first phase of research involved focus groups conducted primarily with persons cohabiting in same-sex relationships. The focus groups explored the meaning and interpretation of the current decennial Census and American Community Survey (ACS) relationship and marital status items. The second phase of qualitative research was conducted by the Census Bureau under the auspices of the OMB working group. As a result of the focus groups and expert panel review, two alternatives were developed for recommended wording to be further tested in larger-scale quantitative content tests. The 2015 Census Test includes testing the new relationship question that used these new same-sex response categories. In addition, the 2015 Census Test will include a question on the internet instrument that will allow respondents to report that a housing unit they own is vacant as of Census Day, and to provide the reason for the vacancy status (e.g., a seasonal or rental unit). This new question will enable the Census Bureau to identify some vacant housing units during self-response so they can be removed from NRFU operations.

The materials mailed to the respondents will inform them that the survey is mandatory in accordance with Title 13, United States Code, Sections 141 and 193. This information also will be available via a hyperlink from within the Internet instrument.

The results of the 2015 Census Test from both sites will help guide the design of additional 2020 Decennial Census testing later this decade. Testing in 2015 is necessary to build on the findings from the 2014 Census Test and to establish recommendations for contact strategies, response options, and field operation efficiencies that can be further refined and tested in later studies. At this point in the decade, the Census Bureau needs to acquire evidence showing whether the strategies being tested can reduce the cost per housing unit during a decennial census, while still providing high quality and accuracy of the census data.

Along with other results, the response rates to paper and Internet collection will be used to help inform 2020 Decennial program planning and metrics determination. Several demographic questions and coverage probes are included in this test to combine with results from other recent testing opportunities to achieve optimal coverage for decennial censuses and surveys.

The specific goal for the Non-ID Processing research is to continue evaluating enhancements to the Census Bureau's process to collect address information needed for real-time matching and geocoding of Non-ID responses. Testing enhancements to Non-ID processing will inform planning for the 2020 Census design, as well as the infrastructure required to support large scale, real-time processing of electronic Non-ID response data submitted via the Internet or a Census-provided questionnaire application designed for mobile devices.

The goal of the advertising and outreach component of the Savannah site Test is twofold; first, we are supporting the entire OSR test by educating respondents and motivating self-response in an effort increase response rates. Secondarily, this is our first opportunity to evaluate the effects of new advertising media on response rates. Specifically we are interested in assessing digital and targeted digital advertising, mediums the Census Bureau did not employ in the 2010 Census but that are now available due to the evolution of technology. Results of this test will inform additional tests and will help the Census Bureau begin planning for the 2020 Census communications campaign.

The data collected from households and individuals during the 2015 Census Test will be used to research and evaluate new methodologies and systems to plan the 2020 Census. The Census Bureau will not publish any tabulations or population estimates using the results from this test. However, methodological papers may be written that include summary tallies of response characteristics or problems identified, and responses may be used to inform future research studies building upon the results of these tests. The Census Bureau plans to make the evaluation results of this study available to the general public.

In the Maricopa County site, where the Census Bureau will conduct NRFU, the 2015 Census Test is designed to collect information to:

• Research the cost and quality impacts of differing approaches to removing workload from the NRFU universe through the use of administrative records information.

• Research the cost and quality impacts of new NRFU contact strategies that make use of adaptive design and a re-engineered management structure employing an Area Operations Support Center housed at the Regional Office, automated payroll, automated training, and minimal face-to-face contact between enumerators and supervisors. For these experimental panels enumerators also provide work-time availability in advance, and the system assigns them the optimal number of cases to attempt each day, as well as the routing they should employ.

We are continuing our research on differing approaches to removing workload from the NRFU universe. In one approach we will remove all cases (both occupied and vacant) from the NRFU workload when we have administrative records data for the address. In a second approach we will make one contact attempt (for those cases considered occupied based on administrative records) before removing them from NRFU. The goal is to determine how these approaches vary regarding costs and quality measures. Results from both of these alternative strategies will be compared to a control panel that will conduct NRFU operations similar to how it was done in the 2010 Census. The testing will also obtain detailed data on when and how enumerators use proxy respondents.

The Census Bureau will conduct an additional NRFU data collection activity in the Maricopa site with enumerator-owned commercially provided mobile devices. The use of employee owned equipment/services is commonly referred to as “Bring Your Own Device” or BYOD. After selecting enumerators for this study, a sample of up to 5,000 households will be contacted at the end of the NRFU field operation using this methodology. These will be additional households not included in the other test activities (e.g., the self-response phase). The objectives of this component of the test are to:

• Design, develop, deploy, and support secure software solutions that can be installed on employee's personally owned commercially available mobile devices;

• Conduct interviews of respondents using these employee owned mobile devices; and

• Capture lessons learned for future operations, including: focus groups with a sub-set of the respondents, questionnaires for the enumerators, and collecting feedback from the local census office.

Focus groups also will be conducted in the Maricopa site to ask respondents about their experiences with the 2015 Census Test. Respondents will be recruited into groups with regard to their treatment and demographic characteristics (e.g., age, education). For example, respondents will be recruited into one of the groups of 8-12 participants by age and education as well as whether they were NRFU respondents or non-respondents. Participants also will be asked about their general concerns with government collection and protection of confidential data. For the Nonresponse Follow-up groups only, we will ask participants their reactions to enumerators using personal devices when conducting Census interviews. At the end of the focus groups, we will be asking participants for whom we have acquired additional data to verify whether this information is accurate.

All focus groups will be tape-recorded to facilitate a summary of the results. Participants will be asked to sign consent forms and give permission to be recorded. All participants will be informed that their response is voluntary and that the information they provide is confidential. Respondents will receive a $75 stipend after the focus group concludes.

Affected Public: Individuals or households.

Frequency: One time.

Respondent's Obligation: Mandatory.

Legal Authority: Title 13, United States Code, Sections 141 and 193.

This information collection request may be viewed at www.reginfo.gov. Follow the instructions to view Department of Commerce collections currently under review by OMB.

Written comments and recommendations for the proposed information collection should be sent within 30 days of publication of this notice to OIRA_Submission@omb.eop.gov or fax to (202)395-5806.

Dated: January 8, 2015.
Glenna Mickelson,
Management Analyst, Office of the Chief Information Officer.

[FR Doc. 2015-00321 Filed 1-12-15; 8:45 am]

BILLING CODE 3510-07-P